DEPARTMENT OF ENERGY

Federal Energy Regulatory Commission

[Docket No. CP21-470-000]

Freeport LNG Development, L.P.; FLNG Liquefaction, LLC; FLNG Liquefaction 2, LLC; FLNG Liquefaction 3, LLC; Notice of Schedule for Environmental Review of the Freeport LNG Capacity Amendment Project

On June 29, 2021, Freeport LNG Development, L.P., FLNG Liquefaction, LLC, FLNG Liquefaction 2, LLC, and FLNG Liquefaction 3, LLC (together referred to as Freeport LNG) filed an application with the Federal Energy Regulatory Commission (Commission or FERC) in Docket No. CP21-470-000 requesting authorization pursuant to Section 3(a) of the Natural Gas Act to increase the liquefied natural gas (LNG) production capacity of the Freeport LNG terminal located on Quintana Island, in Brazoria County, Texas. Freeport LNG proposes to increase the authorized maximum LNG production capacity from 782 billion cubic feet per year (bcf/y) to approximately 870 bcf/y. The proposal is known as the Freeport LNG Capacity Amendment Project (Project).

On July 14, 2021, the Commission issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—April 22, 2022

90-day Federal Authorization Decision Deadline—July 21, 2022

If a schedule change becomes necessary, additional notice will be provided so that the relevant agencies are kept informed of the Project's progress.

Project Description and Background

Pursuant to Section 3(a) of the Natural Gas Act and in accordance with Part 153 of the Commission's regulations, Freeport LNG filed an application to amend the authorizations granted by the Commission in Docket Nos. CP12-509-000 and CP12-29-000, as amended in Docket Nos. CP15-518-000 and CP20-532-000.

Freeport LNG has determined that under the upper limit normal operating conditions, 870 bcf/y reflects the maximum quantity of LNG that could be produced in a particular year on the basis of operating at an annualized rate of 2.38 bcf per day at design conditions previously approved by the Commission. Freeport LNG is seeking to align the terminal's authorizations with this maximum design LNG production capability. Freeport LNG states that no additional construction or modification of previously-authorized facilities is required to implement this increase.

The U.S. Department of Transportation—Pipeline and Hazardous Materials Safety Administration is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP21-470), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 14, 2021.
Kimberly D. Bose,
Secretary.

[FR Doc. 2021-27564 Filed 12-20-21; 8:45 am]

BILLING CODE 6717-01-P